DEPARTMENT OF STATE

[Public Notice 5068]

Announcement of Meetings of the International Telecommunication Advisory Committee

SUMMARY: The International Telecommunication Advisory Committee announces a meeting of U.S. Study Group B on July 12, 2005, which will be held to prepare positions for the next meeting of the ITU-T Study Group 16. Members of the public will be admitted to the extent that seating is available, and may join in the discussions, subject to the instructions of the Chair.

The International Telecommunication Advisory Committee (ITAC) will meet on Tuesday, July 12, 2005, to prepare U.S. and company contributions for the ITU-T Study Group 16 meeting, which will take place July 26-August 5, 2005, in Geneva, Switzerland. The U.S. Study Group B meeting will be held at Communication Technologies, Inc. (COMTek) 14151 Newbrook Drive, Suite 400, Chantilly, VA 20151, telephone (703) 961-9080. Those planning to attend should provide their name and organization no later than July 5 to Marcie Geissinger at marcie.g@comcast.net or at (303) 499-2145. Directions to the meeting location are available and conference bridge information (if any) may be obtained from Marcie Geissinger at marcie.g@comcast.net.

Dated: June 6, 2005.
Anne Jillson,
Foreign Affairs Officer, International Communications & Information Policy, Department of State.

[FR Doc. 05-11651 Filed 6-10-05; 8:45 am]

BILLING CODE 4710-07-P